DEPARTMENT OF COMMERCE

International Trade Administration

[A-428-840]

Lightweight Thermal Paper From Germany: Partial Rescission of Antidumping Duty Administrative Review; 2012-2013

AGENCY: Enforcement and Compliance, formerly Import Administration, International Trade Administration, Department of Commerce.

DATES: Effective February 11, 2014.

FOR FURTHER INFORMATION CONTACT: David Goldberger or Terre Keaton Stefanova, Enforcement and Compliance, International Trade Administration, U.S. Department of Commerce, 14th Street and Constitution Avenue NW., Washington, DC 20230; telephone: (202) 482-4136 or (202) 482-1280, respectively.

SUPPLEMENTARY INFORMATION:

Background

On November 1, 2013, the Department of Commerce (the Department) published in the Federal Register a notice of “Opportunity to Request Administrative Review” of the antidumping duty order on lightweight thermal paper from Germany for the period of review (POR) of November 1, 2012, through October 31, 2013.¹

¹ See Antidumping or Countervailing Duty Order, Finding, or Suspended Investigation; Opportunity to Request Administrative Review, 78 FR 65612 (November 1, 2013).

On December 2, 2013, in accordance with section 751(a) of the Tariff Act of 1930, as amended (the Act), and 19 CFR 351.213(b), the Department received a timely request from Appvion Inc. (the petitioner), a domestic interested party, to conduct an administrative review of the sales of Papierfabrik August Koehler SE (Koehler) (formerly known as Papierfabrik August Koehler AG),² Mitsubishi HiTec Paper Flensburg GmbH, Mitsubishi HiTec Paper Bielefeld GmbH, and Mitsubishi International Corp. Also on this date Mitsubishi HiTec Paper Europe GmbH (Mitsubishi Europe) timely requested a review of itself.

² We note that on November 27, 2013, Koehler requested a review of itself. In addition, we note that in the preliminary results of the 2011-2012 administrative review, we determined that Papierfabrik August Koehler SE is the successor-in-interest to Papierfabrik August Koehler AG (see Lightweight Thermal Paper from Germany: Preliminary Results of Antidumping Duty Administrative Review; 2011-2012, 78 FR 78335 (December 26, 2013)).

On December 30, 2013, the Department published in the Federal Register a notice of initiation of an administrative review of the antidumping duty order on lightweight thermal paper from Germany with respect to the above-named companies.³

³ See Initiation of Antidumping and Countervailing Duty Administrative Reviews and Request for Revocation in Part, 78 FR 79392 (December 30, 2013).

On January 16, 2014, the petitioner timely withdrew its request for a review of Mitsubishi HiTec Paper Flensburg GmbH, Mitsubishi HiTec Paper Bielefeld GmbH, and Mitsubishi International Corp. Also on this date, Mitsubishi Europe withdrew its request for a review.

Partial Rescission of Review

Pursuant to 19 CFR 351.213(d)(1), the Department will rescind an administrative review, in whole or in part, if the parties that requested a review withdraw the request within 90 days of the date of publication of notice of initiation of the requested review. We received the petitioner's and Mitsubishi Europe's withdrawal requests before the 90-day deadline. Therefore, in response to their withdrawal requests and pursuant to 19 CFR 351.213(d)(1), we are rescinding this review with regard to Mitsubishi HiTec Paper Flensburg GmbH, Mitsubishi HiTec Paper Bielefeld GmbH, Mitsubishi International Corp, and Mitsubishi Europe. The instant review will continue with respect to Koehler.

Assessment

The Department will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions directly to CBP 15 days after the date of publication of this notice in the Federal Register.

Notification to Importers

This notice serves as the only reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751(a)(1) of the Act and 19 CFR 351.213(d)(4).

Dated: February 5, 2014.
Christian Marsh,
Deputy Assistant Secretary for Enforcement and Compliance.

[FR Doc. 2014-02948 Filed 2-10-14; 8:45 am]

BILLING CODE 3510-DS-P